ENVIRONMENTAL PROTECTION AGENCY

[FRL-7885-3]

Science Advisory Board Staff Office; Notification of an Upcoming Science Advisory Board Meeting

AGENCY: Environmental Protection Agency (EPA).

ACTION: Notice.

SUMMARY: The EPA Science Advisory Board (SAB) Staff Office announces a public teleconference meeting of the SAB Quality Review Committee (QRC) to discuss the review of the draft SAB report, Review of EPA Region 5 Critical Ecosystem Assessment Model.

DATES: April 4, 2005. A public telephone conference meeting to discuss the draft SAB report will be held on April 4, 2005 from 3:30 p.m. to 5 p.m. (Eastern Time).

ADDRESSES: The meeting for this review will be held by telephone only.

FOR FURTHER INFORMATION CONTACT: Members of the public who wish to obtain further information regarding this teleconference meeting may contact Mr. Thomas O. Miller, Designated Federal Officer (DFO), U.S. EPA Science Advisory Board via phone (202-343-9982) or e-mail at miller.tom@epa.gov.

The SAB mailing address is: U.S. EPA, Science Advisory Board (1400F), 1200 Pennsylvania Avenue, NW., Washington, DC 20460. General information about the SAB, as well as any updates concerning the meeting announced in this notice, may be found on the SAB Web site at: http://www.epa.gov/sab.

SUPPLEMENTARY INFORMATION: Background: EPA Region V requested that the SAB conduct a review of the Critical Ecosystem Assessment Model (CrEAM). The CrEAM is a spatially explicit model developed by EPA Region V for predicting the ecological significance of undeveloped land using ecological theory, existing data sets, and geographic information system (GIS) technology. The model identifies ecologically significant areas by integrating three important conditions: (1) Ecosystem diversity, (2) ecological self sustainability, and (3) species and land cover rarity. The CrEAM was developed to assess the ecological significance of land areas across the states of EPA Region V (Illinois, Indiana, Michigan, Minnesota, Ohio, and Wisconsin). EPA Region V asked the SAB to comment on the scientific validity of the conceptual framework and methodology used in the CrEAM to identify ecologically significant ecosystems, and on the scientific defensibility of the results generated from the CrEAM. To conduct this review, the SAB Staff Office formed the Critical Ecosystem Assessment Review Panel. The Panel was formed by augmenting the SAB's Ecological Processes and Effects Committee with experts in ecology and the use of geographic information system technology to conduct landscape scale analyses. The Panel has completed a draft report that is now being submitted to a Quality Review Committee (QRC) of the chartered Science Advisory Board for review. The review was conducted as part of the SAB's mission, established by 42 U.S.C. 4365, to provide independent scientific and technical advice, consultation, and recommendations to the EPA Administrator on the technical bases for EPA policies and regulations. Background information on SAB's review of the CrEAM was provided in Federal Register Notices published on June 7, 2004 (69 FR 31819-31820) and April 21, 2004 (69 FR 21524-21525).

The purpose of an SAB QRC meeting is to conduct a public review and discussion of the SAB draft report. The focus of the discussion will be on whether: (i) The original charge questions to the SAB review panel have been adequately addressed, (ii) the report is clear and logical, and (iii) any conclusions drawn, or recommendations provided, are supported by the body of information in the review report. The outcome of the QRC review will be one, or a combination of one or more, of the following: (i) recommend SAB approval of the report without substantive change, (ii) return the report to the review panel for further work, or (iii) reject the work of the review panel and request a reconsideration and a revised report in the future.

Availability of Review Material for the Board Meeting: Documents that are the subject of this meeting are available on the SAB Web site at: http://www.epa.gov/sab/.

Procedures for Providing Public Comment: The SAB Staff Office accepts written public comments of any length, and accommodates oral public comments whenever possible. The SAB Staff Office expects that public statements presented at SAB meetings will not be repetitive of previously submitted oral or written statements. Oral Comments: In general, each individual or group requesting an oral presentation at a teleconference meeting will usually be limited to no more than three minutes per speaker and no more than fifteen minutes total. Interested parties should contact the DFO noted above in writing via e-mail at least one week prior to the meeting in order to be placed on the public speaker list for the meeting. Speakers should provide an electronic copy of their comments for distribution to interested parties and participants in the meeting. Written Comments: Although written comments are accepted until the date of the meeting (unless otherwise stated), written comments should be received in the SAB Staff Office at least one week prior to the meeting date so that the comments may be made available to the committee for their consideration. Comments should be supplied to the DFO at the address/contact information above in the following formats: one hard copy with original signature, and one electronic copy via e-mail (acceptable file format: Adobe Acrobat, WordPerfect, Word, or Rich Text files (in IBM-PC/Windows 98/2000/XP format).

Meeting Accommodations: Individuals requiring special accommodation to access these meetings, should contact the DFO at least five business days prior to the meeting so that appropriate arrangements can be made.

Dated: March 11, 2005.
Vanessa T. Vu,
Director, EPA Science Advisory Board Staff Office.

[FR Doc. 05-5323 Filed 3-16-05; 8:45 am]

BILLING CODE 6560-50-P